DEPARTMENT OF TRANSPORTATION

Federal Highway Administration

Notice of Final Federal Agency Actions on Proposed Highways in Texas

AGENCY: Federal Highway Administration (FHWA), DOT.

ACTION: Notice of Limitation on claims for judicial review of actions by FHWA and other Federal agencies.

SUMMARY: This notice announces actions taken by the FHWA and other Federal agencies that are final within the meaning of 23 U.S.C. 139(1)(1). The actions relate to various proposed highway projects in the State of Texas. Those actions grant licenses, permits, and approvals for the projects.

DATES: By this notice, the FHWA is advising the public of final agency actions subject to 23 U.S.C. 139(1)(1). A claim seeking judicial review of the Federal agency actions on any of the listed highway projects will be barred unless the claim is filed on or before January 29, 2007. If the Federal law that authorizes judicial review of a claim provides a time period of less than 180 days for filing such claim, then that shorter time period still applies.

FOR FURTHER INFORMATION CONTACT: Salvador Deocampo, District Engineer, Texas Division, Federal Highway Administration, 826 Federal Building Room 826 300 E. 8th Street Austin, Texas 78701, 8 a.m. to 5 p.m. Monday through Friday, 512-536-5950, salvador.deocampo@fhwa.dot.gov. Ms. Dianna Noble, P.E., Director Environmental Affairs Division, Texas Department of Transportation, 118 E. Riverside, Austin, Texas, 78704; 512-416-2734; e-mail: dnoble@dot.state.tx.us. Texas Department of Transportation normal business hours are 8 a.m. to 5 p.m. (central time) Monday through Friday.

SUPPLEMENTARY INFORMATION: Notice is hereby given that the FHWA and other Federal agencies have taken final agency actions by issuing licenses, permits, and approvals for the highway projects in the State of Texas that are listed below. The actions by the Federal agencies on the projects, and the laws under which such actions were taken, are described in the documented environmental assessments (EAs), issued in connection with the projects, and in other documents in the FHWA project record for the project. The EA and other documents from the FHWA project record files for the listed projects are available by contacting the FHWA or TxDOT at the addresses provided above.

This notice applies to all Federal agency decisions on the listed projects as of the issuance date of this notice and all laws under which such actions were taken, including but not limited to:

I. General: National Environmental Policy Act (NEPA) [42 U.S.C. 4321-4351]; Federal-Aid Highway Act (FAHA) [23 U.S.C. 109].

II. Air: Clean Air Act (CAA), 42 U.S.C. 7401-7671(q).

III. Land: Section 4(f) of the Department of Transportation Act of 1966 (4f) [49 U.S.C. 303].

IV. Wildlife Endangered Species Act (ESA) [16 U.S.C. 1531-1544 and Section 1536], Migratory Bird Treaty Act (MBTA) [16 U.S.C. 703-712].

V. Historic and Cultural Resources: Section 106 of the National Historic Preservation Act of 1966, as amended (106)[16 U.S.C. 470(f)et seq.]; Archeological Resources Protection Act of 1977 (ARPA) [16 U.S.C. 470(aa)-11]; Archeological and Historic Preservation Act (AHPA) [16 U.S.C. 469-469(c)].

VI. Social and Economic: Civil Rights Act of 1964 (Civil Rights) [42 U.S.C. 2000(d)-2000(d)(1)].

VII. Wetlands and Water Resources: Clean Water Act, 33 U.S.C. 1251-1337 (Section 404, Section 401, Section 319); Rivers and Harbors Act of 1899 (RHA), 33 U.S.C. 401-406.

VIII. Executive Orders: E.O. 11990 Protection of Wetlands; E.O. 11988 Floodplain Management; E.O. 11514 Protection and Enhancement of Environmental Quality.

The projects subject to this notice are:

1. Project Location: City of Dallas, Dallas County, Interstate Highway (IH)-30 and IH-35East (IH-35E). Project Reference Number: Texas Department of Transportation (TxDOT) CSJ: 0009-11-181, etc. Project Type: Widen and Reconstruct Roadway near downtown Dallas with a 2-Lane Reversible High Occupancy Vehicle/Managed (HOV/M), 12 freeway lanes (6 in each direction), and frontage roads: 2 or 3 lanes in each direction. Project Length: Approximately 11 miles. General Purpose: To improve safety and traffic operations and to reduce congestion along IH-30, IH-35E and the interchange of IH-30 and IH-35E near downtown Dallas. Final agency actions taken under: NEPA, FAHA, CAA, Section 4(f), Section 106, ESA, MBTA, ARPA, AHPA, Civil Rights Act, RHA, Section 401, E.O. 11990, and E.O. 11514. NEPA Document: Environmental Assessment (EA) & Section 4(f) evaluation/Finding Of No Significant Impact (FONSI) issued July 28, 2005. Document available at: http://www.projectpegasus.org/.

2. Project Location: City of Dallas, Dallas County, Spur 366 (Woodall Rogers) from IH-35E to Beckley Avenue/Singleton Boulevard. Project Reference Number: TxDOT CSJ: 0196-07-018. Project Type: Extension of existing roadway near the northern boundary of The City of Dallas's central business district. Project Length: Approximately one (1) mile. General Purpose: To reduce traffic congestion, improve mobility, improve design deficiencies, and improve system linkage. Final agency actions taken under: NEPA, FAHA, CAA, ESA, MBTA, ARPA, AHPA, Civil Rights Act, Section 404 [United States Army Corps of Engineers (USACE) Nationwide Permit Number (NWP)14], RHA, Section 401, E.O. 11990, and E.O. 11514. NEPA document: EA/FONSI issued July 20, 2005. Document available at: http://www.projectpegasus.org/wre.htm.

3. Project Location: Denton County, FM 2499, from FM 407 to FM 2181 (Swisher Road). Project Reference Number: TxDOT CSJ: 2681-01-009. Project Type: Construct a four lane divided urban arterial on new location. Project Length: Approximately four and seven tenths (4.7) miles. General Purpose: To reduce traffic congestion, increase people and goods-carrying capacity within the project area, and improve system linkage. Final agency actions taken under: NEPA, FAHA, CAA, Section 4(f), Section 106, ESA, MBTA, ARPA, AHPA, Civil Rights Act, Section 404 (USACE NWP14), Section 401, E.O. 11990, and E.O. 11514. NEPA Document: EA & Section 4(f) evaluation/FONSI issued June 6, 2005.

4. Project Location: City of Dallas, Dallas County, Loop 12, from W. Lawther Drive to east of Goforth Drive. Project Reference Number: TxDOT CSJ: 0353-05-084. Project Type: Raise existing three lanes in each direction roadway and bridges out of the 100 year floodplain. Project Length: Approximately two and seven tenths miles (2.7). General Purpose: To improve bridge and roadway deficiencies. Final agency actions taken under: NEPA, FAHA, CAA, ESA, MBTA, ARPA, AHPA, Civil Rights Act, Section 404 (USACE NWP 3 and 25), Section 401, and E.O. 11514. NEPA Document: EA/FONSI issued November 29, 2005.

5. Project Location: State Highway (SH) 121 from 0.23 miles West of Business SH 121 to East of MacArthur Boulevard in the Counties of Dallas and Denton. Project Reference Number: TxDOT CSJ: 3547-01-001, etc. Project Type: The project will be for tolling of approximately two (2) miles of a 6 lane (3 in each direction) controlled access road with three lane frontage roads in each direction. The project will be constructed within existing right-of-way. Project Length: Approximately two (2) miles. General Purpose: The project will improve system linkage and mobility in the area in response to current and future traffic demand needs and development along SH 121. Final agency actions taken under: NEPA, FAHA, CAA, ESA, MBTA, ARPA, AHPA, Civil Rights Act, Section 401, E.O. 11990, and E.O. 11514. NEPA Document: EA/FONSI issued April 14, 2006. Document available at: http://www.keepitmovingdallas.com.

6. Project Location: State Highway (SH) 121 from east of MacArthur Boulevard to the Dallas North Tollway in the Counties of Denton and Collin. Project Reference Number: TxDOT CSJ: 0364-03-065, etc. Project Type: The project will be for tolling of 11 miles of a 6 lane (3 in each direction) controlled access road with 3 lanes of frontage roads in each direction. Project Length: Approximately 11 miles. General Purpose: The project will improve system linkage and mobility in the area in response to current and future traffic demand needs and development along SH 121. Final agency actions taken under: NEPA, FAHA, CAA, Section 106, ESA, MBTA, ARPA, AHPA, Civil Rights Act, Section 404 (USACE NWP14), Section 401, E.O. 11990, and E.O. 11514. NEPA Documents: Project was originally three NEPA documents done for sections of SH 121 with logical termini and were found to still be valid on on April 14, 2006. Actual EA/FONSIs were determined on April 13, 1990 (section from east of MacArthur Blvd. East to just east of IH 35E), November 11, 1991 (section from East of IH35E to FM 423) and on September 9, 2005 (section from FNM 243 to DNT). Document available at: http://www.keepitmovingdallas.com.

(Catalog of Federal Domestic Assistance Program Number 20.205, Highway Planning and Construction. The regulations implementing Executive Order 12372 regarding intergovernmental consultation on Federal programs and activities apply to this program.)

Authority: 23 U.S.C. 139(l)(1).

Issued on: July 21, 2006.
Salvador Deocampo,
District Engineer.

[FR Doc. 06-6578 Filed 7-28-06; 8:45 am]

BILLING CODE 4910-22-M